DEPARTMENT OF AGRICULTURE

Commodity Credit Corporation

Notice of Request for Extension and Revision of a Currently Approved Information Collection

AGENCY: Commodity Credit Corporation, USDA.

ACTION: Notice and request for comments.

SUMMARY: In accordance with the Paperwork Reduction Act of 1995, this notice announces the intention of the Commodity Credit Corporation (CCC) to request an extension for and revision to a currently-approved information collection for the Non-recourse Cotton Loan Program. This notice requests comments on proposed revisions to CCC-605, Designation of Agent—Cotton. The primary revision being proposed would provide producers the option of authorizing the Commodity Credit Corporation to use an electronic record of the producer's designation of an agent. Other format revisions to the CCC-605 are also proposed. The information collected is used to support the operation of the marketing assistance loan programs for cotton under authority of the Commodity Credit Corporation Charter Act (15 U.S.C. 714 et seq.) and the Federal Agriculture Improvement and Reform Act of 1996 (7 U.S.C. 7201 et seq.)

DATES: Comments on this notice must be received on or before September 25, 2001 to be assured consideration.

FOR FURTHER INFORMATION CONTACT: Gene S. Rosera, USDA/Farm Service Agency, 1400 Independence Avenue, SW., STOP 0512; Washington, DC 20250-0512, telephone number (202) 720-8481. Comments may also be submitted by e-mail to: gene_rosera@wdc.fsa.usda.gov.

SUPPLEMENTARY INFORMATION:

Title: Non-recourse Cotton Loan Program.

OMB Control Number: 0560-0074.

Expiration Date of Approval: October 31, 2002.

Type of Request: Extension and revision to a currently approved information collection.

Abstract: On behalf of CCC, the Farm Service Agency (FSA) has developed an Internet-based process (referred to as Centralized Certificate Redemption (CCR)) that will allow agents designated and approved by cotton producers to obtain and exchange commodity certificates for cotton loan collateral. Cotton producers commonly authorize entities engaged in the marketing of cotton to repay cotton loan obligations or obtain and exchange commodity certificates for cotton loan collateral at county FSA offices. The CCR will allow these approved entities to conduct these loan settlement functions online and ultimately obtain loan collateral without physically presenting paper documents and payments at multiple county FSA offices.

Cotton producers currently designate and approve agents for these loan functions using CCC-605, Designation of Agent—Cotton. The CCC-605 is also frequently used by the producer's agent to transfer their repayment authority to a subsequent agent. This form additionally identifies the loan to which the agent-designation applies, the quantity of the loan collateral applicable to the agent-designation, the number of bales, and other loan information.

For loan collateral redemptions, the agent or subsequent agent presents the CCC-605, the list of bales to be redeemed from loan, and payment at the county FSA office that “holds” the cotton warehouse receipts or electronic warehouse receipts. Based on receipt of these documents, CCC accepts repayment of the loan and releases the loan collateral to the agent designated by the producer. This same process is followed when the producer's agent requests to exchange commodity certificates for the loan collateral. For such exchanges, the agent additionally signs a statement acknowledging receipt of the commodity certificate and its exchange for loan collateral valued at the marketing loan repayment rate.

When the CCR process becomes fully operational, producers will be offered the option of authorizing CCC to accept certificate exchanges for their loan collateral from the agent identified on the electronic warehouse receipt (EWR) for the cotton. (This option is not being offered at this time for loan redemptions with cash.) This field of information on the EWR is referred to as the Electronic Agent Designation (EAD). However, for CCC to accept certificate redemptions from the agent identified on the EWR, the producer will need to authorize CCC to use such electronic records. This authorization will be required to protect both the producer and CCC from any liability arising from CCC's use of such records. Under the CCR process, the CCC-605 form will not be required to be returned to the county FSA office in order to establish the CCR as a totally on-line process. The EAD will be entered onto the EWR by the EWR Provider based on procedures acceptable to the cotton producer, the producer's designated agent, and the EWR Provider. The establishment of the EAD and the use of the CCR process are entirely optional and producers will continue to have the option of requiring repayment or certificate exchanges at the county FSA office.

CCC will request approval of a revised CCC-605, Designation of Agent—Cotton that would contain the following parts. Parts A, B, C, F, and G to the revised CCC-605 would provide functions that are new to the CCC-605. Part A would identify the contact producer authorizing CCC to use an EAD. This part would additionally identify the loan or loans for which the authorization is established by loan number, maturity date and farm number. The producer would have the option of providing authorization for CCC to use the EAD for all loans of a specific crop year. Part B would contain the definitions and terms of the authorization for CCC to use the EAD. Part C of the form would provide for the signatures and dates of signatures for all producers providing CCC authorization to use the EAD. Part D would provide the terms under which the producer authorizes an agent or, if applicable, the subsequent agent to redeem all or a portion of the cotton pledged as collateral for the identified loans. The terms of agent designation in Part D will not be revised from those currently provided by CCC-605 (version dated 10-13-00) except for necessary notational corrections. Part F, Endorsements, will provide space for the producer's agent to transfer, by endorsement, the functions to a subsequent agent. The current version of the CCC-605 provides space for six such subsequent endorsements and the proposed CCC-605 will have room for only four such subsequent endorsements. It is proposed that a new Part F be added as a convenience to agents that may present the CCC-605 at a county FSA office by providing the following statement that would be followed by space for the agent's signature and date of the signature: “ I acknowledge: (1) Receipt of CCC Commodity Certificate which I requested to purchase from CCC; (2) that the certificate will be exchanged with CCC in the manner specified in CCC regulations at 7 CFR Part 1400 in order that I may receive commodities from CCC which had previously been pledged as collateral for a CCC marketing assistance loan; and (3) that for purposes of valuing the commodity acquired under this transaction, such value will be the marketing loan repayment rate applicable under 7 CFR Parts 1427 for the commodity as of the day I made payment to CCC for the commodity certificate.” Part G is proposed to be added for use by CCC only to enter the holder ID of the entity to which the cotton loan collateral was released.

Estimate of Burden: Public reporting burden for the revised CCC-605 is estimated to average 4 minutes per producer and 2 minutes per producers' agent for a total burden of 6 minutes per completed form.

Respondents: Individual producers and cotton merchants.

Estimated Number of Respondents: 24,450 producers × 4 minutes per response and 24,450 agents × 2 minutes per response.

Estimated Number of Responses per Respondent: 1

Estimated Total Annual Burden on Respondents: 2,445 burden hours times $12.00 per hour=$29,340.

Proposed topics for comment include: (a) Whether the collection of the proposed EAD authorization is necessary for the proper performance of the CCR, including whether the information will have practical utility and protect the interests of CCC and the producer; (b) the accuracy of the agency's estimate of burden including the validity of the methodology and assumptions used; (c) alternatives to the proposed information collection; or (d) ways to minimize the burden of the collection of the information on cotton producers expected to respond, including the use of appropriated automated, electronic, mechanical, or techniques or other forms of information technology.

Comments should be sent to the Desk Officer for Agriculture, Office of Information and Regulatory Affairs, Office of Management and Budget, Washington, DC 20503 and to Gene S. Rosera, USDA/Farm Service Agency, 1400 Independence Avenue, SW., STOP 0512; Washington, DC 20250-0512, telephone number (202) 720-8481. All responses to this notice will be summarized and included in the request for OMB approval. All comments will become a matter of public record.

Signed at Washington, DC on July 24, 2001.
Larry Walker,
Acting Administrator, Farm Service Agency.

[FR Doc. 01-18837 Filed 7-26-01; 8:45 am]

BILLING CODE 3410-05-P